DEPARTMENT OF HOMELAND SECURITY

Bureau of Immigration and Customs Enforcement

Agency Information Collection Activities: Comment Request

ACTION: 60-Day Notice of Information Collection Under Review; Application for USAccess; Form I-923.

The Department of Homeland Security (DHS), Bureau of Immigration and Customs Enforcement, has submitted the following information collection request for review and clearance in accordance with the Paperwork Reduction Act of 1995. Customs and Border Protection has proposed a new collection of information; Form I-923, entitled Application for USAccess (U.S. Automated Check-in, Clearance, and Entry Support Services). This collection will be used to enroll applicants in the USAccess pilot program to prescreen applicants in order to expedite U.S. citizens seeking admission to the Washington/Dulles International Airport (IAD) arriving from London/Heathrow Airport (LHR). The proposed information collection is published to obtain comments from the public and affected agencies. Comments are encouraged and will be accepted for sixty days until December 1, 2003.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: New information collection.

(2) Title of the Form/Collection: Application for USAccess.

(3) Agency form number, if any, and the applicable component of the Department of Justice sponsoring the collection: Form I-923, Bureau of Immigration and Customs Enforcement, Department of Homeland Security.

(4) Affected public who will be asked or required to respond, as well as a brief abstract: Primary: Individuals or Households. The information collected on this form will be used by the DHS to determine eligibility for automated inspections programs and to secure those data elements necessary to confirm enrollment at the time of application for admission to the United States.

(5) An estimate of the total number of respondents and the amount of time estimated for an average respondent to respond: 3,000 responses at 66 minutes (1.10 hours) per response.

(6) An estimate of the total public burden (in hours) associated with the collection: 3,300 annual burden hours.

If you have additional comments, suggestions, or need a copy of the proposed information collection instrument with instructions, or additional information, please contact Richard A. Sloan, 202-514-3291, Director, Regulations and Forms Services Division, Bureau of Immigration and Customs Enforcement, U.S. Department of Homeland Security, Room 4304, 425 I Street, NW., Washington, DC 20536. Additionally, comments and/or suggestions regarding the item(s) contained in this notice, especially regarding the estimated public burden and associated response time may also be directed to Mr. Richard A. Sloan.

If additional information is required contact: Ms. Theresa M. O'Malley, Chief Information Officer, Department of Homeland Security, Regional Office Building 3, 7th and D Streets, SW., Room 4636-26, Washington, DC 20202.

Dated: September 23, 2003.
Richard A. Sloan,
Department Clearance Officer, U.S. Department of Homeland Security, Bureau of Immigration and Customs Enforcement.

[FR Doc. 03-24630 Filed 9-29-03; 8:45 am]

BILLING CODE 4410-10-M